DEPARTMENT OF HEALTH AND HUMAN SERVICES

Centers for Disease Control and Prevention

[30Day-11-0753]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

Evaluation of the Centers for Disease Control and Prevention's Consumer Response Service Center, CDC INFO (OMB No. 0920-0753 exp. 10/31/2010) —Revision—Office for the Associate Director of Communication, Centers for Disease Control and Prevention (CDC).

Background and Brief Description

In September 2005, the Centers for Disease Control and Prevention launched CDC-INFO, a consolidated, comprehensive effort to respond to consumer, provider and partner inquiries on a broad spectrum of public health topics by telephone or e-mail. More than 40 nationwide public health hotlines and warm lines were consolidated into one central phone number using a phased approach from 2005 to 2008. Management of CDC-INFO services is increasingly guided by a comprehensive evaluation that includes point-of-service and follow-up customer satisfaction surveys. These surveys provide the public with ongoing opportunity to express their level of satisfaction and report how they have used this information. All members of the public, health care providers and businesses can contact CDC-INFO by phone, e-mail, or postal mail to request health information or order CDC publications. CDC-INFO is a proactive, unified, and integrated approach to the delivery of public health information and is designed to contribute to improving the health and safety of the public. Customers are defined as any individual or group seeking health or public health information from CDC. This includes the public, media, medical and healthcare professionals, public health professionals, partner groups, businesses, researchers, and others.

The data collected since the approval of the original CDC-INFO study have been used for assessment of contact center performance and customer satisfaction.

This request is for a three year extension and revision of the existing data collection. Due to budget cuts, the following evaluation activities which were previously approved will be discontinued and are not included in the revised request: CDC-INFO Live Phone Follow-up Survey, Postcard Survey for Single Publication Orders, Postcard Survey for Bulk Mailing, Web Survey for Internet Publication Orders, Web Survey for E-Mailed Publication Orders, Customer Representative Survey, Special Outreach Surveys (General Public), Special Outreach Surveys (Professionals), Emergency Response Surveys (General Public), Emergency Response Surveys (Professionals). CDC-INFO will continue to offer two of the previously approved customer satisfaction surveys. The Interactive Voice Response Survey—offered in English and Spanish and the Web Survey for E-Mail Inquirers—offered in English and Spanish. Both surveys underwent minimal changes. The changes to the surveys will allow CDC-INFO to collect race/ethnicity data that is consistent with the Census form which gives participants the opportunity to identify as multi-racial.

Sample size, respondent burden, and intrusiveness have been minimized to be consistent with national evaluation objectives. There is no cost to the respondent, other than their time. The total estimated annual burden hours are 6,206.

Estimated Annualized Burden Hours
Type of respondent | Form name | Number of respondents | Number responses per respondent | Average burden per response (in hrs)
General Callers | Brief Interactive Voice Response Survey (English & Spanish) | 92,000 | 1 | 4/60
Email Inquirers | Web Survey for E-mail Inquires (English & Spanish) | 1,460 | 1 | 3/60

Dated: October 14, 2010.
Carol E. Walker,
Acting Reports Clear Officer, Centers for Disease Control and Prevention.

[FR Doc. 2010-26386 Filed 10-19-10; 8:45 am]

BILLING CODE 4163-18-P